DEPARTMENT OF HEALTH AND HUMAN SERVICES

Centers for Disease Control and Prevention

[Program Announcement 02163]

Support for Civil Society of Organizations Responding to HIV/AIDS in Zimbabwe; Notice of Availability of Funds; Amendment

A notice announcing the availability of Fiscal Year 2002 funds for cooperative agreement program for Support for Civil Society of Organizations Responding to HIV/AIDS in Zimbabwe was published on May 23,2002, Volume 67, Number 100, pages 36194-36196. The notice is amended as follows: On page 36195, Column 2, Paragraph “F. Content”, Letter of Intent (LOI), the following change is added: A (LOI) is optional for this program.

Dated: July 9, 2002.
Sandra R. Manning,
Director, Procurements and Grants Office, Centers for Disease Control and Prevention.

[FR Doc. 02-17627 Filed 7-12-02; 8:45 am]

BILLING CODE 4163-18-P